DEPARTMENT OF AGRICULTURE

Agricultural Marketing Service

[Doc. No. AMS-LPS-14-0075]

Livestock, Poultry, and Seed Program; Notice of Request for Extension and Revision of a Currently Approved Information Collection Governing the Inspection of Eggs

AGENCY: Agricultural Marketing Service, USDA.

ACTION: Notice and request for comments.

SUMMARY: In accordance with the Paperwork Reduction Act of 1995 (44 U.S.C. 3501-20), this notice announces the Agricultural Marketing Service's (AMS) intent to request approval, from the Office of Management and Budget (OMB), for an extension of and revision to the currently approved information collection in support of the shell egg surveillance portion of the Regulations Governing the Inspection of Eggs (Egg Products Inspection Act)—7 CFR part 57.

DATES: Comments on this notice must be received by December 29, 2014 to be assured of consideration.

ADDRESSES: Interested persons are invited to submit comments concerning this information collection notice. Comments should be submitted online at www.regulations.gov or sent to Michelle Degenhart, Assistant to the Director, Quality Assessment Division; Livestock, Poultry, and Seed Program; Agricultural Marketing Service; U.S. Department of Agriculture; 1400 Independence Ave. SW., Room 3942-S; Washington, DC, 20250-0256, or by facsimile to (202) 690-2746. All comments should reference the Doc. No. (AMS-LPS-14-0075), the date, and the page number of this issue of the Federal Register. All comments received will be posted without change, including any personal information provided, online at http://www.regulations.gov and will be made available for public inspection at the above physical address during regular business hours.

FOR FURTHER INFORMATION CONTACT: Michelle Degenhart at the above physical address, or by email at Michelle.Degenhart@ams.usda.gov.

SUPPLEMENTARY INFORMATION: Title: Regulations for the Inspection of Eggs (Egg Products Inspection Act).

OMB Number: 0581-0113.

Expiration Date of Approval: March 31, 2015.

Type of Request: Extension and revision of a currently approved information collection.

Abstract: Congress enacted the Egg Products Inspection Act (21 U.S.C. 1031-1056) (EPIA) to provide, in part, a mandatory inspection program to control the disposition of dirty and checked shell eggs; to control unwholesome, adulterated, and inedible shell eggs that are unfit for human consumption; and to control the movement and disposition of imported shell eggs.

The EPIA authorizes the U. S. Department of Agriculture (USDA) to issue regulations to ensure that only eggs fit for human consumption are used for such purposes.

Under the shell egg surveillance program, shell egg handlers and hatcheries are required to register with USDA. Quarterly, a State or Federal surveillance inspector visits each registered handler to verify that shell eggs packed for consumer use are in compliance, that restricted eggs are being disposed of properly, and that adequate records are being maintained.

The information and recordkeeping requirements in this request are essential to carry out the intent of Congress, to administer the mandatory inspection program, and to take regulatory action, in accordance with the regulations and the EPIA. The forms within this collection package require the minimum information necessary to effectively carry out the requirements of the regulations, and their use is necessary to fulfill the intent of the EPIA.

The information collected is used only by authorized representatives of the AMS, Livestock, Poultry, and Seed Program's Quality Assessment Division and resident Federal-State graders, which includes State agencies authorized to conduct inspections on AMS' behalf. The information is only used to verify compliance with the EPIA and the regulations and to facilitate regulatory action. The Agency is the primary user of the information; secondary users include each authorized State agency that have a cooperative agreement with AMS.

Estimate of Burden: Public reporting burden for this collection of information is estimated to average .31 hours per response.

Respondents: Businesses or other for-profit and small businesses or organizations.

Estimated Number of Respondents: 818.

Estimated Total Annual Responses: 6,177.

Estimated Number of Responses per Respondent: 8 (rounded).

Estimated Total Annual Burden on Respondents: 1,909 (rounded).

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: October 23, 2014.
Rex A. Barnes,
Associate Administrator, Agricultural Marketing Service.

[FR Doc. 2014-25662 Filed 10-28-14; 8:45 am]

BILLING CODE 3410-02-P